DEPARTMENT OF TRANSPORTATION

Federal Aviation Administration

Public Notice For Waiver Of Aeronautical Land-use Assurance Capital Airport, Springfield, IL

AGENCY: Federal Aviation Administration, DOT.

ACTION: Notice of intent of waiver with respect to land.

SUMMARY: The Federal Aviation Administration (FAA) is considering a proposal to change a portion of airport land from aeronautical use to non-aeronautical use and to authorize the sale/exchange of the airport property. The proposal consists of Parcel 16-3-F1, a 3.169 acre portion of Parcel 16-3-F, and Parcel 14-1, a 0.636 acre portion of Parcel 14. Presently the land is vacant an used as open land for control of FAR Part 77 surfaces and compatible land use and is not needed for aeronautical use, as shown on the Airport Layout Plan. Parcel 16-3-F (57.17 acres) was acquired in 1970 with partial Federal participation. Of the original 57.17 acres, 44.46 acres was purchased with Federal Participation. 12.71 acres of the original 57.17-acre parcel have been previously released from Federal obligations to the Illinois Department of Transportation for highway Right-of-Way. Parcel 14 (215.70 acres) was acquired in 1946 without federal participation. Of the original 215.70 acres, 9.68 acres of this parcel have been previously released from Federal obligations to the Illinois Department of Transportation for highway Right-of-Way. It is the intent of the Springfield Airport Authority (SAA) to exchange Parcel 16-3-F1 for Parcel 14-1 (collectively 3.805 Acres) with the City of Springfield for the R.O.W. currently owned by the City of Springfield (1.958 Acres) that is located adjacent to the southeast quadrant General Aviation development area. While the acreages exchanged are not equal, the benefit the SAA will obtain from the acquisition of the 1.958 acres of R.O.W will outweigh the shortfall in releasing 3.805 acres, as the new acquisition will allow for further General Aviation development in the south quadrant area. This notice announces that the FAA intends to authorize the disposal/exchange of the subject airport property at Capital Airport, Springfield, IL. Approval does not constitute a commitment by the FAA to financially assist in disposal of the subject airport property nor a determination that all measures covered by the program are eligible for grant-in-aid funding from the FAA. In accordance with section 47107(h) of Title 49, United States Code, this notice is required to be published in the Federal Register 30 days before modifying the land-use assurance that requires the property to be used for an aeronautical purpose.

DATES: Comments must be received on or before September 4, 2002.

FOR FURTHER INFORMATION CONTACT: Richard Pur, Program Manager, 2300 East Devon Avenue, Des Plaines, IL, 60018. Telephone Number 847-294-7527/FAX Number 847-294-7046. Documents reflecting this FAA action may be reviewed at this same location by appointment or at the Springfield Airport Authority, Capital Airport, 1200 Capital Airport Drive, Springfield, IL 62707.

SUPPLEMENTARY INFORMATION: The following legal description of the proposed land sale is:

Parcel 16-3-F1 (Part of Original Tract 16-3-F)

Part of the North Half of the Southwest Quarter of Section 16, Township 16 North, Range 5 West of the Third Principal Meridian, further described as follows:

Commencing at an axle marking the Southwest Corner of the North Half of the Southwest Quarter of said Section 16; thence North 00 degrees 54 minutes 59 seconds West, 639.06 feet along the west line of said Southwest Quarter, Section 16 to the Point of Beginning; thence North 00 degrees 54 minutes 59 seconds West, 234.84 feet along said west line; thence South 53 degrees 49 minutes 46 seconds East, 1080.74. feet; thence along a tangential curve to the left having a radius of 260.00 feet, arc length of 204.84 feet and a chord which bears South 76 degrees 23 minutes 58 seconds East, 199.58 feet; thence North 81 degrees 01 minutes 50 seconds East, approximately 294.57 feet to the west line of the Northeast Quarter of the Southwest Quarter of said Section 16, thence south along the west line on the Northeast Quarter of the Southwest Quarter of said Section 16, approximately 80.80 feet; thence South 81 degrees 01 minutes 50 seconds West, approximately 283.22 feet; thence along a tangential curve to the right having a radius of 340.00 feet, arc length of 267.87 and a chord which bears North 76 degrees 23 minutes 58 seconds West, 260.99 feet; thence North 53 degrees 49 minutes 46 seconds West, 797.21 feet; thence South 89 degrees 04 minutes 04 seconds West, 177.94 feet to the Point of Beginning. containing approximately 3.169 acres, more or less. Said parcel also being shown by the plat attached hereto and made a part hereof.

Parcel 14-1 (Part of Original Tract 14)

Part of the North Half of the Southwest Quarter of Section 16, Township 16, North, Range 5 West of the Third Principal Meridian, further described as follows:

Commencing at an axle marking the Southwest Corner of the North Half of the Southwest Quarter of said Section 16; thence North 00 degrees 54 minutes 59 seconds West, 639.06 feet along the west line of said Southwest Quarter, Section 16; thence North 00 degrees 54 minutes 59 seconds West, 234.84 feet along said west line; thence South 53 degrees 49 minutes 46 seconds East, 1080.74 feet; thence along a tangential curve to the left having a radius of 260.00 feet, arc length of 204.84 feet and a chord which bears South 76 degrees 23 minutes 58 seconds East, 199.58 feet; thence North 81 degrees 01 minutes 50 seconds East, approximately 294.57 feet to the west line of the Northeast Quarter of the Southwest Quarter of said Section 16 also being the Point of Beginning; thence continuing North 81 degrees 01 minutes 50 seconds East, approximately 329.52 feet to a point on the southwesterly right-of-way line of Relocated Township Road 810; thence along said southwesterly right-of-way line, along a non-tangent curve to the right having a radius of 750.09 feet, arc length of 82.65 feet and a chord which bears South 23 degrees 24 minutes 08 seconds East, 82.61 feet; thence South 81 degrees 01 minutes 50 seconds West, approximately 361.45 feet to the west line of the Northeast Quarter of the Southwest Quarter of said Section 16; thence north along the west line of the Northeast Quarter of the Southwest Quarter of said Section 16, 80.80 feet more or less to the point of Beginning. Containing 0.636 acres, more or less. Said parcel is shown by the plat attached hereto and made a part hereof.

This legal description does not represent a boundary survey and is based on a suggested land description provided by the SAA.

Issued in Des Plaines, Illinois on July 10, 2002.
Philip M. Smithmeyer,
Manager, Chicago Airports District Office, FAA, Great Lakes Region.

[FR Doc. 02-19681 Filed 8-2-02; 8:45 am]

BILLING CODE 4910-13-M